DEPARTMENT OF DEFENSE

Office of the Secretary

Judicial Proceedings Since Fiscal Year 2012 Amendments Panel; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Judicial Proceedings Since Fiscal Year 2012 Amendments Panel will take place.

DATES: Open to the public, Wednesday, July 26, 2017, from 9:00 a.m. to 4:15 p.m. and Thursday, July 27, 2017, from 9:00 a.m. to 1:30 p.m.

ADDRESSES: One Liberty Center, Suite 1432, 875 North Randolph Street, Arlington, Virginia 22203.

FOR FURTHER INFORMATION CONTACT: Maria Fried, 703-571-2664 (Voice), 703-693-3903 (Facsimile), whs.pentagon.em.mbx.judicial-panel@mail.mil (Email). Mailing address is One Liberty Center, 875 N. Randolph Street, Suite 150, Arlington, Virginia 22203. Web site: http://jpp.whs.mil/. The most up-to-date changes to the meeting agenda can be found on the Web site.

SUPPLEMENTARY INFORMATION: Due to circumstances beyond the control of the Designated Federal Officer and the Department of Defense, the Judicial Proceedings Since Fiscal Year 2012 Amendments Panel was unable to provide public notification concerning its meeting on July 26 through 27, 2017, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

For meeting information please contact the staff director, Captain Tammy Tideswell, JAGC, U.S. Navy, Judicial Proceedings Panel, One Liberty Center, 875 N. Randolph Street, Suite 150, Arlington, VA 22203, whs.pentagon.em.mbx.judicial-panel@mail.mil (Email), (703) 693-3867 (Voice), or (703) 693-3903 (Facsimile). For submitting written comments or questions to the Panel, send via email to whs.pentagon.em.mbx.judicial-panel@mail.mil. Materials provided to Panel members for use at the public meeting may be obtained at the meeting or from the Panel's Web site at http://jpp.whs.mil/.

Purpose of the Meeting: In section 576(a)(2) of the National Defense Authorization Act for Fiscal Year 2013 (Pub. L. 112-239), as amended, Congress tasked the Judicial Proceedings Panel to conduct an independent review and assessment of judicial proceedings conducted under the Uniform Code of Military Justice (UCMJ) involving adult sexual assault and related offenses since the amendments made to the UCMJ by section 541 of the National Defense Authorization Act for Fiscal Year 2012 (Pub. L. 112-81; 125 Stat. 1404), for the purpose of developing recommendations for improvements to such proceedings. At this meeting, the Panel will deliberate on four pending reports: The JPP Report on Panel Concerns Regarding the Fair Administration of Military Justice in Sexual Assault Cases; the JPP Report on Fiscal Year 2015 Statistical Data Regarding Military Adjudication of Sexual Assault Offenses; the JPP Report on Sexual Assault Investigations in the Military; and the JPP Final Report.

Agenda: Wednesday, July 26, 2017: 8:30 a.m.-9:00 a.m. Administrative Work (41 CFR 102-3.160, not subject to notice and open meeting requirements); 9:00 a.m.-9:15 a.m. Welcome and Introduction; 9:15 a.m.-12:15 p.m. Panel Deliberations on JPP Report on Panel Concerns Regarding the Fair Administration of Military Justice in Sexual Assault Cases; 12:15 p.m.-1:00 p.m. Lunch; 1:00 p.m.-2:30 p.m. Panel Deliberations on JPP Report on Fiscal Year 2015 Statistical Data Regarding Military Adjudication of Sexual Assault Offenses; 2:30 p.m.-4:00 p.m. Panel Deliberations on JPP Report on Sexual Assault Investigations in the Military; 4:00 p.m.-4:15 p.m. Public Comment; 4:15 p.m. Meeting Adjourned. Thursday, July 27, 2017: 8:30 a.m.-9:00 a.m. Administrative Work (41 CFR 102-3.160, not subject to notice and open meeting requirements); 9:00 a.m.-9:15 a.m. Welcome and Introduction; 9:15 a.m.-12:15 p.m. Panel Deliberations on JPP Final Report; 12:15 p.m.-1:00 p.m. Lunch; 1:00 p.m.-1:30 p.m. JPP Meeting Wrap-up; 1:30 p.m. Meeting Adjourned.

Meeting Accessibility: Pursuant to 5 U.S.C. 552b and 41 CFR 102-3.140 through 102-3.165, and the availability of space, this meeting is open to the public. Seating is limited and is on a first-come basis. In the event the Office of Personnel Management closes the government due to inclement weather or for any other reason, please consult the Web site for any changes to the public meeting date or time. Visitors are required to sign in at the One Liberty Center security desk and must leave government-issued photo identification on file while in the building. Department of Defense Common Access Card (CAC) holders who do not have authorized access to One Liberty Center must provide an alternate form of government-issued photo identification to leave on file with security while in the building. All visitors must pass through a metal detection security screening. Individuals requiring special accommodations to access the public meeting should contact the Judicial Proceedings Panel at whs.pentagon.em.mbx.judicial-panel@mail.mil at least five (5) business days prior to the meeting so that appropriate arrangements can be made.

Written Statements: Pursuant to 41 CFR 102-3.140 and section 10(a)(3) of the Federal Advisory Committee Act of 1972, the public or interested organizations may submit written comments to the Panel about its mission and topics pertaining to this public session. Written comments must be received by the JPP at least five (5) business days prior to the meeting date so that they may be made available to the Judicial Proceedings Panel for their consideration prior to the meeting. Written comments should be submitted via email to the Judicial Proceedings Panel at whs.pentagon.em.mbx.judicial-panel@mail.mil in the following formats: Adobe Acrobat or Microsoft Word. Please note that since the Judicial Proceedings Panel operates under the provisions of the Federal Advisory Committee Act, as amended, all written comments will be treated as public documents and will be made available for public inspection. Oral statements from the public will be permitted, though the number and length of such oral statements may be limited based on the time available and the number of such requests. Oral presentations by members of the public will be permitted from 4:00 p.m. to 4:15 p.m. on July 26, 2017, in front of the Panel members.

Dated: July 11, 2017.
Aaron Siegel,
Alternate OSD Federal Register Liaison Officer, Department of Defense.

[FR Doc. 2017-14843 Filed 7-13-17; 8:45 am]

BILLING CODE 5001-06-P